DEPARTMENT OF TRANSPORTATION

Federal Aviation Administration

14 CFR Part 39

[Docket No. 86-ANE-12-AD]

RIN 2120-AA64

Airworthiness Directives; General Electric CF6-80C2 Series Turbofan Engines

AGENCY: Federal Aviation Administration, DOT.

ACTION: Proposed rule; withdrawal.

SUMMARY: This action withdraws a notice of proposed rulemaking (NPRM) that proposed a new airworthiness directive (AD), applicable to General Electric (GE) CF6-80C2 series turbofan engines. That action would have required imposing a life limit on certain forward engine mount thrust links. Since that NPRM was issued, the FAA has determined that the affected parts are no longer eligible for installation, and therefore, the unsafe condition is not likely to exist or develop on other products of the same type design. Accordingly, the proposed rule is withdrawn.

FOR FURTHER INFORMATION CONTACT: Karen Curtis, Aerospace Engineer, Engine Certification Office, FAA, Engine and Propeller Directorate, 12 New England Executive Park, Burlington, MA 01803; telephone (781) 238-7192; fax (781) 238-7199.

SUPPLEMENTARY INFORMATION: A proposal to amend part 39 of the Federal Aviation Regulations (14 CFR part 39) to add a new airworthiness directive (AD), applicable to GE CF6-80C2 series turbofan engines, was published in the Federal Register on July 11, 1986 (51 FR 25208). The proposed rule would have required imposing a life limit on certain forward engine mount thrust links. The forward engine mount frame thrust links, part numbers (P/Ns) 9383M45G01 and 9383M45G02, and the forward engine mount platform thrust links, P/Ns 9383M45G03 and 9383M45G04, would have been life-limited to 5,000 cycles-since-new (CSN). That action was prompted by the results of low-cycle-fatigue test results that determined certain forward engine mount frame and platform thrust links had a finite low-cycle-fatigue life limit. GE Service Bulletin (SB) 72-022, dated April 26, 1988, introduced a redesigned forward engine thrust mount system. The proposed actions were intended to prevent fracture of forward mount thrust links, which could result in the mount's inability to carry design loads.

Since that NPRM was issued, the FAA has determined that all affected engines are in compliance with the proposed AD by having complied with GE SB 72-022, dated April 26, 1989. The SB was issued as a Category 3, Campaign Change, and GE recommended that this SB be done at the next shop visit. In addition, the FAA has determined that the affected parts are no longer eligible for installation, and therefore, the unsafe condition is not likely to exist or develop on other products of the same type design. Accordingly, the proposed rule is withdrawn.

Withdrawal of this notice of proposed rulemaking applies only to the NRPM, and does not prevent us from issuing another notice in the future, nor does it commit us to any course of action in the future.

This action is not covered under Executive Order 12866, the Regulatory Flexibility Act, or DOT Regulatory Policies and Procedures (44 FR 11034, February 26, 1979) because it only withdraws a notice of proposed rulemaking, and it is neither a proposed nor a final rule.

List of Subjects in 14 CFR Part 39

Air transportation, Aircraft, Aviation safety, Safety.

The Withdrawal

The notice of proposed rulemaking, Docket No. 86-ANE-12-AD, published in the Federal Register on July 11, 1986 (51 FR 25208), is withdrawn.

Issued in Burlington, Massachusetts, on November 20, 2003.
Francis A. Favara,
Acting Manager, Engine and Propeller Directorate, Aircraft Certification Service.

[FR Doc. 03-29571 Filed 11-25-03; 8:45 am]

BILLING CODE 4910-13-P